DEPARTMENT OF THE INTERIOR

National Park Service

Notice of Inventory Completion: Robert S. Peabody Museum of Archaeology, Phillips Academy, Andover, MA

AGENCY: National Park Service, Interior.

ACTION: Notice.

Notice is here given in accordance with the Native American Graves Protection and Repatriation Act (NAGPRA), 25 U.S.C. 3003, of the completion of an inventory of human remains and associated funerary objects in the possession of the Robert S. Peabody Museum of Archaeology, Phillips Academy, Andover, MA. The human remains and associated funerary objects were removed from locations in Barnstable and Plymouth Counties, MA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and funerary objects was made by the Robert S. Peabody Museum of Archaeology professional staff in consultation with representatives of the Wampanoag Repatriation Confederation representing the Wampanoag Tribe of Gay Head (Aquinnah) of Massachusetts, Mashpee Wampanoag Tribe (a nonfederally recognized Indian group), and Assonet Band of the Wampanoag Nation (a nonfederally recognized Indian group).

In 1930, human remains representing a minimum of one individual were removed from the Herring Weir site (19¯PL¯249/250), Mattapoisett, Plymouth County, MA, by Ralph Metcalf. The site was located at the top of a bank adjacent to a stream emptying into Mattapoisett Bay. In 1945, Maurice Robbins obtained the human remains and donated them to the Robert S. Peabody Museum of Archaeology in 1950. No known individual was identified. The 23 associated funerary objects are 12 fragments of organic materials, including matting, animal skin, and an animal tooth; 4 copper fragments; 4 animal bones; 2 pyrite fragments; and 1 lot of bark fragments.

Other burials at the Herring Weir site contained objects of Euroamerican manufacture. Based on artifact typologies, the Herring Weir Site is dated to the Late Woodland/Early Contact period (circa A.D. 1000¯1650).

In 1945 and 1949, human remains representing a minimum of three individuals were removed from the Taylor Hill site (19¯BN¯106), in Wellfleet, Barnstable County, MA, by Howard Torrey and Ripley Bullen and were donated to the Robert S. Peabody Museum of Archaeology at an unknown time. No known individuals were identified. The eight associated funerary objects are one harpoon point, two mollusk shells, one deer¯bone awl, two lots of animal bones, one projectile point, and one biface fragment.

Based on artifact characteristics and radiocarbon dating, the Taylor Hill site is dated to the Late Middle Woodland to Late Woodland period (circa A.D. 500¯1500). Deer bone that was associated with the human remains from the site has been dated to A.D. 976¯1010 (calibrated).

In 1935, human remains representing a minimum of one individual were removed from the Indian Cove Bluff site (19¯BN¯104), in Wellfleet, Barnstable County, MA, by Howard Torrey and were donated to the Robert S. Peabody Museum of Archaeology at an unknown time. No known individual was identified. No associated funerary objects are present

Based on artifact characteristics and radiocarbon dating, the Indian Cove Bluff site is dated to the Late Middle Woodland to Late Woodland periods (circa A.D. 500¯1500).

In 1915, human remains representing a minimum of two individuals were removed from the Corn Hill site (19¯BN¯144/45), in Truro, Barnstable County, MA, by Warren K. Moorehead and Fred Luce. Shortly afterwards, Mr. Luce donated the human remains to the Haverhill Historical Society. In 1993, the Haverhill Historical Society transferred the human remains and funerary objects to the Robert S. Peabody Museum of Archaeology. No known individuals were identified. The 53 associated funerary objects are 1 metal blade, approximately 50 iron fragments, 1 lot of soil stained with ochre, and 1 lot of wood and bark fragments stained with ochre.

Corn Hill is an historically documented Contact period site (post¯A.D. 1500).

Increased frequency and longer¯term use of coastal areas by Native American people in the outer Cape Cod and Buzzards Bay, MA, area began in the Middle Woodland period. This pattern continued and intensified into the Contact Period. With the formation of highly productive and more stable salt¯marsh and estuary environments, long¯term occupation became a viable settlement option. The locally focused, year¯round exploitation of this environmental diversity first becomes visible in late Middle Woodland sites and continued to characterize Wampanoag subsistence patterns and apparent social organization throughout the Late Woodland/Contact periods. Concomitant with this evidence for year-round occupation are mortuary data that indicate a significantly different pattern than that evident on earlier sites in the same region. Wampanoag descendents are today represented by the Wampanoag Tribe of Gay Head (Aquinnah) of Massachusetts, Mashpee Wampanoag Tribe (a nonfederally recognized Indian group), and Assonet Band of the Wampanoag Nation (a nonfederally recognized Indian group).

Officials of the Robert S. Peabody Museum of Archaeology have determined that, pursuant to 25 U.S.C. 3001 (9¯10), the human remains described above represent the physical remains of seven individuals of Native American ancestry. Officials of the Robert S. Peabody Museum of Archaeology also have determined that, pursuant to 25 U.S.C. 3001 (3)(A), the 84 objects described above are reasonably believed to have been placed with or near individual human remains at the time of death or later as part of the death rite or ceremony. Lastly, officials of the Robert S. Peabody Museum of Archaeology have determined that, pursuant to 25 U.S.C. 3001 (2), there is a relationship of shared group identity that can be reasonably traced between the Native American human remains and associated funerary objects and the Wampanoag Tribe of Gay Head (Aquinnah) of Massachusetts, and there is a cultural relationship between the Native American human remains and associated funerary objects and the Mashpee Wampanoag Tribe (a nonfederally recognized Indian group), and the Assonet Band of the Wampanoag Nation (a nonfederally recognized Indian group).

Representatives of any other Indian tribe that believes itself to be culturally affiliated with the human remains and associated funerary objects should contact Malinda S. Blustain, Director, Robert S. Peabody Museum of Archaeology, Phillips Academy, Andover, MA 01810, telephone (978) 749¯4490, before May 2, 2005. Repatriation of the human remains and associated funerary objects to the Wampanoag Repatriation Confederation on behalf of the Wampanoag Tribe of Gay Head (Aquinnah) of Massachusetts, Mashpee Wampanoag Tribe (a nonfederally recognized Indian group), and Assonet Band of the Wampanoag Nation (a nonfederally recognized Indian group) may proceed after that date if no additional claimants come forward.

The Robert S. Peabody Museum of Archaeology is responsible for notifying the Wampanoag Repatriation Confederation, Wampanoag Tribe of Gay Head (Aquinnah) of Massachusetts, the Mashpee Wampanoag Tribe (a nonfederally recognized Indian group), and the Assonet Band of the Wampanoag Nation (a nonfederally recognized Indian group) that this notice has been published.

Dated: February 11, 2005.
Sherry Hutt,
Manager, National NAGPRA Program.

[FR Doc. 05-6460 Filed 3-31-05; 8:45 am]

BILLING CODE 4312-50-S